DEPARTMENT OF THE INTERIOR

Fish and Wildlife Service

50 CFR Part 17

[Docket No. FWS-R2-ES-2016-0132; 4500030115]

Endangered and Threatened Wildlife and Plants; 90-Day Findings on Three Petitions; Correction

AGENCY: Fish and Wildlife Service, Interior.

ACTION: Correction.

SUMMARY: On November 30, 2016, we, the U.S. Fish and Wildlife Service (Service), published a document in the Federal Register announcing 90-day findings on three petitions to list or reclassify wildlife or plants under the Endangered Species Act of 1973, as amended (Act). That document included a not-substantial finding for Tetraneuris verdiensis (Verde four-nerve daisy). In the finding, we mistakenly attributed the petition to list Tetraneuris verdiensis as endangered or threatened and to designate critical habitat for this plant to the Center for Biological Diversity; however Glenn Rink submitted that petition to us. With this document, we correct that error. If you sent a comment previously, you need not resend the comment.

DATES: Correction issued on December 5, 2016. To ensure that we will have adequate time to consider submitted information during the status reviews for the leopard and lesser prairie-chicken, we request that we receive information no later than January 30, 2017.

FOR FURTHER INFORMATION CONTACT: Regarding Tetraneuris verdiensis, contact Shaula Hedwall, 928-556-2118; shaula_hedwall@fws.gov. If you use a telecommunications device for the deaf, please call the Federal Relay Service at 800-877-8339.

SUPPLEMENTARY INFORMATION: In the Federal Register of November 30, 2016 (81 FR 86315), in FR Doc. 2016-28513, on page 86317, in the first column, under the heading Evaluation of a Petition to List Tetraneuris verdiensis (Verde Four-nerve Daisy) as an Endangered or Threatened Species Under the Act, and the subheading Petition History, remove the words “the Center for Biological Diversity” and add in their place the words “Glenn Rink”.

Dated: November 30, 2016.
Tina A. Campbell,
Chief, Division of Policy, Performance, and Management Programs, U.S. Fish and Wildlife Service.

[FR Doc. 2016-29055 Filed 12-2-16; 8:45 am]

BILLING CODE 4333-15-P